DEPARTMENT OF COMMERCE

Economic Development Administration

[Docket No. 991215339-1051-02]

RIN-0610-ZA14

Economic Development Assistance Programs—Availability of Funds Under the Public Works and Economic Development Act of 1965, as Amended and the Trade Act of 1974, as Amended

AGENCY: Economic Development Administration (EDA), Department of Commerce (DoC).

ACTION: Correction.

SUMMARY: This Notice provides current contact information, including new Internet addresses, for EDA Regional Offices and Economic Development Representatives. The table below updates information provided in Section XIII of the Notice of Funding Availability published on March 14, 2001, Part III (66 FR 15001).

DATES: New Internet addresses become effective immediately.

ADDRESSES: Contact information for EDA Regional Offices and Economic Development Representatives (EDRs) is provided in the table below.

FOR FURTHER INFORMATION CONTACT: Additional information on EDA programs is available on EDA's Web site at www.doc.gov/eda. For information on community and regional economic development projects, contact the Regional Office or EDR for your area as shown in the table below.

SUPPLEMENTARY INFORMATION: The table below provides current contact information for EDA Regional Offices and Economic Development Representatives, and replaces Section XIII of the March 14, 2001, Federal Register Notice, Part III, beginning with the third column, bottom of page 66 FR 15005 through the end of the second column page 66 FR 15007. There are no other changes to the Notice of March 14, 2001, which remains in effect as is.

XIII. EDA Regional Offices and Economic Development Representatives

Effective immediately, the Internet addresses listed in the March 14, 2001, Notice of Funding Availability will change from “@doc.gov” to “@eda.doc.gov”. The contact information below has been updated to show the new Internet addresses.

William J. Day, Jr., Regional Director, Atlanta Regional Office, 401 West Peachtree Street, N.W., Suite 1820, Atlanta, Georgia 30308-3510, Telephone: (404) 730-3002, Fax: (404) 730-3025, Internet Address: wday1@eda.doc.gov

Economic development representatives | States covered
PATTERSON, Gilbert | Mississippi.
401 West Peachtree Street, NW. | Georgia.
Suite 1820
Atlanta, GA 30308-3510
Telephone: (404) 730-3000
Internet Address: gpatterson@eda.doc.gov
HUNTER, Bobby D. | Kentucky.
771 Corporate Drive, Suite 200 | North Carolina (Western).
Lexington, KY 40503-5477
Telephone: (859) 224-7426
Internet Address: bhunter@eda.doc.gov
DIXON, Patricia M. | South Carolina.
U.S. Department of Commerce-EDA North Carolina (Eastern).
P. O. Box 1707
Lugoff, SC 29078
Telephone: (803) 408-2513
Internet Address: pdixon@eda.doc.gov
DENNIS, Bobby | Alabama.
401 West Peachtree Street, NW.
Suite 1820
Atlanta, GA 30308-3510
Telephone: (404) 730-3020
Internet Address: bdennis@eda.doc.gov
TAYLOR, Willie C. | Florida.
401 West Peachtree Street, NW.
Suite 1820
Atlanta, GA 30308-3510
Telephone: (404) 730-3032
Internet Address: wtaylor5@eda.doc.gov
REED, Tonia | Tennessee.
401 West Peachtree Street, N.W.
Suite 1820
Atlanta, Georgia 30308-3510
Telephone: (404) 730-3026
Internet Address: treed@eda.doc.gov

Pedro R. Garza, Regional Director, Austin Regional Office, 327 Congress Avenue, Suite 200, Austin, Texas 78701-4037, Telephone: (512) 381-8144, Fax: (512) 381-8177, Internet Address: pgarza@eda.doc.gov

Area directors | States covered
JACOB, Larry | New Mexico.
Austin Regional Office | Oklahoma.
327 Congress Avenue, Suite 200 | Texas (Northwest).
Austin, TX 78701-4037
Telephone: (512) 381-8157
Internet Address: ljacob@eda.doc.gov
FRERKING, Sharon T. | Arkansas.
Austin Regional Office | Louisiana.
327 Congress Avenue, Suite 200 | Texas (Southeast).
Austin, Texas 78701-4037
Telephone: (512) 381-8154
Internet Address: sfrerking@eda.doc.gov
SPEARMAN, Sam | Arkansas.
700 West Capital, Room 2509
Little Rock, AR 72201
Telephone: (501) 324-5637
Internet Address: sspearman@eda.doc.gov
DAVIDSON-EHLERS, Pamela | Louisiana.
501 Magazine Street, Room 1025
New Orleans, LA 70130
Telephone: (504) 589-4179
Internet Address: pdavidson@eda.doc.gov

C. Robert Sawyer, Regional Director, Chicago Regional Office, 111 North Canal Street, Suite 855, Chicago, IL 60606, Telephone: (312) 353-7706, Fax: (312) 353-8575, Internet Address: rsawyer@eda.doc.gov

Economic development representatives | States covered
ARNOLD, John B. III | Illinois.
104 Federal Building | Minnesota.
515 West First Street
Duluth, MN 55802
Telephone: (1-888) 865-5719 (Illinois), (218) 720-5326 (Minnesota)
Internet Address: jarnold@eda.doc.gov
HICKEY, Robert F. | Ohio.
Federal Building, Room 740 | Indiana.
200 North High Street
Columbus, Ohio 43215
Telephone: (1-800) 686-2603 (Indiana), (614) 469-7314 (Ohio)
Internet Address: rhickey@eda.doc.gov
PECK, John E. | Michigan.
P.O. Box 517 | Wisconsin.
Acme, Michigan 49610-0517
Telephone: (231) 938-1712
Internet Address: jpeck@eda.doc.gov

Anthony J. Preite, Regional Director, Denver Regional Office, 1244 Speer Boulevard, Room 670, Denver, Colorado 80204, Telephone: (303) 844-4715, Fax: (303) 844-3968, Internet Address: apreite@eda.doc.gov

Economic development representatives | States covered
ZENDER, John P. | Colorado.
1244 Speer Boulevard, Room 632 | Utah.
Denver, CO 80204
Telephone: (303) 844-4902
Internet Address: jzender@eda.doc.gov
CECIL, Robert | Iowa.
Federal Building, Room 823 | Nebraska.
210 Walnut Street
Des Moines, IA 50309
Telephone: (515) 284-4746
Internet Address: bcecil@eda.doc.gov
HILDEBRANDT, Paul | Missouri.
Federal Building, Room B-2 | Kansas.
608 East Cherry Street
Columbia, MO 65201
Telephone: (573) 442-8084
Internet Address: phildebrandt@eda.doc.gov
ROGERS, John C. | Montana.
Federal Building, Room 196 | Wyoming.
301 South Park Ave.
Drawer 10074
Helena, MT 59626
Telephone: (406) 441-1175
Internet Address: jrogers6@eda.doc.gov
JUNGBERG, Cip | South Dakota.
Post Office/Courthouse | North Dakota.
102 4th Avenue, SE, Room 216
P.O. Box 190
Aberdeen, South Dakota 57401
Telephone: (605) 226-7315
Internet Address: cjungberg@eda.doc.gov

Paul M. Raetsch, Regional Director, Philadelphia Regional Office, Curtis Center, Independence Square West, Suite 140 South, Philadelphia, PA 19106, Telephone: (215) 597-4603, Fax: (215) 597-6669, Internet Address: Praetsch@eda.doc.gov

Economic development representatives | States covered
GOOD, William A. | Delaware.
Philadelphia Regional Office | District of Columbia.
The Curtis Center-Suite 140 South
Independence Square West
Philadelphia, PA 19106
Telephone: (215) 597-0405
Internet Address: wgood@eda.doc.gov
AUBE, Michael W. | Connecticut.
USDOC/EDA | Maine.
Federal Building | Rhode Island.
202 Harlow Street, Suite 232
Bangor, ME 04401-4656
Telephone: (207) 945-6985
Internet Address: Maube@eda.doc.gov
POTTER, Rita V. | New Hampshire.
143 North Main Street, Suite 209 | Massachusetts.
Concord, NH 03301-5089
Telephone: (603) 225-1624
Internet Address: rpotter@eda.doc.gov
HUMMEL, Edward | New Jersey.
Philadelphia Regional Office | New York City
The Curtis Center-Suite 140 South | (Long Island).
Independence Square West
Philadelphia, PA 19106
Telephone: (215) 597-6767
Internet Address: ehummel@eda.doc.gov
MARSHALL, Harold J. II | New York.
620 Erie Boulevard West, Suite 104 | Vermont.
Syracuse, NY 13204-2442
Telephone: (315) 448-0938
Internet Address: hmarshal@eda.doc.gov
PECONE, Anthony M. | Pennsylvania.
523 North Broad Street
West Hazleton, PA 18201-1107
Telephone: (570) 459-6861
Internet Address: apecone@eda.doc.gov
CRUZ, Ernesto L. | Puerto Rico.
IBM Building, Room 602 | Virgin Islands.
654 Munoz Rivera Avenue
Hato Rey, PR 00918-1738
Telephone: (787) 766-5187
Internet Address: ecruz@eda.doc.gov
NOYES, Neal E. | Virginia.
Federal Building, Room 474 | Maryland.
400 North 8th Street
P.O. Box 10229
Richmond, VA 23240-1001
Telephone: (804) 771-2061
Internet Address: nnoyes@eda.doc.gov
DAVIS, R. Byron | West Virginia.
405 Capital Street
Room 411
Charleston, WV 25301-1727
Telephone: (304) 347-5252
Internet Address: bdavis3@eda.doc.gov

A. Leonard Smith, Regional Director, Seattle Regional Office, Jackson Federal Building, Room 1856, 915 Second Avenue, Seattle, Washington 98174, Telephone: (206) 220-7660, Fax: (206) 220-7669, Internet Address: LSmith7@eda.doc.gov

Economic development representatives | States covered
RICHERT, Bernhard E. Jr. | Alaska.
550 West 7th Avenue, Suite 1780
Anchorage, AK 99501-7594
Telephone: (907) 271-2272
Internet Address: brichert@eda.doc.gov
SOSSON, Deena R. | California (Central).
801 I Street, Suite 411
Sacramento, CA 95814
Telephone: (916) 498-5285
Internet Address: dsosson@eda.doc.gov
CHURCH, Dianne V. | California (Central Coastal).
Robert Perkham Federal Building
280 South First St., #135-B
San Jose, CA 95113
Telephone: (408) 535-5550
Internet Address: dchurch@eda.doc.gov
FUJITA, Gail S. Federal Building, Room 5180 300 Ala Moana Blvd. P.O. Box 50264 Honolulu, HI 96850 Telephone: (808) 541-3391 Internet Address: gfugita@eda.doc.gov | Hawaii, Guam, American Samoa, Marshall Islands, Micronesia, Northern Marianas. Republic of Palau.
AMES, Aldred F. | Idaho.
Federal Building, Room 146 | Nevada.
304 North 8th Street
Boise, ID 83702
Telephone: (208) 334-1521 (Idaho), (1-888) 693-1370 (Nevada)
Internet Address: aames@eda.doc.gov
BERBLINGER, Anne S. | Oregon.
One World Trade Center | California (Northern).
121 S.W. Salmon Street, Suite 244
Portland, OR 97204
Telephone: (503) 326-3078
Internet Address: aberblin@eda.doc.gov
MARSHALL, Wilfred | California (Southern).
5777 West Century Boulevard, Suite 1675
Los Angeles, CA. 90045
Telephone: (310) 348-5386
Internet Address: wmarshall@eda.doc.gov
KIRRY, Lloyd P. | Washington.
Seattle Regional Office
Jackson Federal Building
915 Second Avenue, Room 1856
Seattle, WA 98174
Telephone: (206) 220-7682
Internet Address: lkirry@eda.doc.gov
MACIAS, Jacob (Acting) | Arizona.
Seattle Regional Office
Jackson Federal Building
915 Second Avenue, Room 1856
Seattle, WA 98174
Telephone: (206) 220-7666
Internet Address: jmacias@eda.doc.gov

For general information, contact the appropriate EDA Regional Office or EDA's Office of Congressional Liaison and Program Research and Evaluation: Economic Development Administration, U.S. Department of Commerce, Washington, DC 20230, Telephone: (202) 482-2309, EDA Web site www.eda.doc.gov

Dated: April 4, 2001.
Mary C. Pleffner,
Acting Assistant Secretary for Economic Development.

[FR Doc. 01-8874 Filed 4-10-01; 8:45 am]

BILLING CODE 3510-24-U